SMALL BUSINESS ADMINISTRATION

Region IV, North Florida District, Jacksonville, FL; Advisory Council Meeting; Public Meeting

The U. S. Small Business Administration, North Florida District Office, Jacksonville, Florida, Advisory Council will hold a public meeting from 12:00 p.m. to 2 p.m., April 20, 2000, at the Crowley American Transport, Inc. Building, First Floor Conference Room, 9487 Regency Square Boulevard, Jacksonville, Florida, to discuss such matters as may be presented by members, staff of the U. S. Small Business Administration, or others present.

For further information, write or call Claudia D. Taylor, U. S. Small Business Administration, 7825 Baymeadows Way, Suite 100-B, Jacksonville, Florida 32256-7504, telephone (904) 443-1933.

Bettie Baca,
Counselor to the Administrator/Public Liaison.

[FR Doc. 00-7350 Filed 3-23-00; 8:45 am]

BILLING CODE 8025-01-P